ENVIRONMENTAL PROTECTION AGENCY

[FRL-8700-01-R9]

Clean Air Act Operating Permit Program: Petition To Object to Operating Permits for the Drews and Century Power Generating Facilities in Southern California

AGENCY: Environmental Protection Agency (EPA).

ACTION: Notice of final action.

SUMMARY: The Environmental Protection Agency (EPA) Administrator signed an Order, dated May 10, 2021, denying a petition to object to Clean Air Act (CAA) title V operating permits issued to two facilities by the South Coast Air Quality Management District (SCAQMD). The EPA's May 10, 2021 Order responds to a November 24, 2020 petition submitted by the Sierra Club and the Center for Community Action and Environmental Justice (the “Petitioners”). The Petitioners requested that the EPA object to the issuance of two title V renewal operating permits issued to Colton Power, LP's Drews Power Generating Station and Century Power Generating Station, located in San Bernardino County, California. The Order constitutes final action on the petition requesting the Administrator object to the issuance of the proposed CAA title V permits.

DATES: Pursuant to section 307(b)(1) of the Clean Air Act, 42 U.S.C. 7607(b)(1), judicial review of this final agency action, to the extent it is available, may be sought by filing a petition for review in the United States Court of Appeals for the Ninth Circuit within 60 days of July 26, 2021.

ADDRESSES: Copies of the petition and Order are available at https://www.epa.gov/title-v-operating-permits/title-v-petition-database. For additional information, please contact the person identified in the FOR FURTHER INFORMATION CONTACT section.

FOR FURTHER INFORMATION CONTACT: Lisa Beckham, EPA Region 9, 75 Hawthorne Street (AIR-3-1), San Francisco, California 94105. By phone at (415) 972-3811, or by email at beckham.lisa@epa.gov.

SUPPLEMENTARY INFORMATION: The CAA affords the EPA a 45-day period to review and, as appropriate, the authority to object to operating permits proposed by state and local permitting authorities under title V of the CAA, 42 U.S.C. 7661-7661f. Section 505(b)(2) of the CAA and 40 CFR 70.8(d) authorize any person to petition the EPA Administrator to object to a title V operating permit within 60 days after the expiration of EPA's 45-day review period if the EPA has not objected on its own initiative. Petitions must be based only on objections to the permit that were raised with reasonable specificity during the public comment period provided by the state, unless the petitioner demonstrates that it was impracticable to raise these issues during the comment period or the grounds for the issues arose after the comment period.

On November 24, 2020, the EPA received a petition requesting that the EPA object to the CAA title V renewal permits for Colton Power, LP's Drews Power Generating Station (Facility ID No. 182561) and Century Power Generating Station (Facility ID No. 182563) (“Permits”). The Petitioners claim that the Permits must be revised to include the more stringent oxides of nitrogen (NOX) emissions limit in a recently amended version of local SCAQMD Rule 1134. The NOX emissions limit has a compliance date of January 1, 2024 and the Petitioners argued that the Permits must be revised now because the compliance date occurs before the expiration of the Permits. The Petitioners further argued that if the operator has not yet chosen one of the two compliance options from the local rule, then the SCAQMD must revise the Permits to include both compliance options.

The EPA denied the petition because the Petitioners failed to demonstrate that the recently amended version of SCAQMD Rule 1134 is an applicable requirement as defined in 40 CFR 70.2 The Order provides additional information, including the EPA's detailed basis for denying the petition.

Dated: July 8, 2021.
Elizabeth Adams,
Acting Regional Administrator, Region IX.

[FR Doc. 2021-15842 Filed 7-23-21; 8:45 am]

BILLING CODE 6560-50-P